DEPARTMENT OF HEALTH AND HUMAN SERVICES

Centers for Disease Control and Prevention

[Docket Number CDC-2022-0063, NIOSH 063-D]

National Institute for Occupational Safety and Health (NIOSH) Fire Fighter Fatality Investigation and Prevention Program (FFFIPP) Fire Service Community Meeting

AGENCY: The Centers for Disease Control and Prevention (CDC), Department of Health and Human Services (HHS).

ACTION: Notice of meeting and request for comment.

SUMMARY: The National Institute for Occupational Safety and Health (NIOSH) in the Centers for Disease Control and Prevention (CDC), an operating division of the Department of Health and Human Services (HHS), announces the following web-based meeting and request for comment on the NIOSH Fire Fighter Fatality Investigation and Prevention Program (FFFIPP).

DATES: Written comments must be received by July 27, 2022. The public meeting will be held on Monday, June 27, 2022, 10 a.m. to 3:30 p.m. EDT, or after the last public commenter in attendance has spoken, whichever occurs first. The public meeting will be held as a web-based teleconference available by remote access.

ADDRESSES: This is a virtual meeting. You may submit comments, identified by Docket No. CDC-2022-0063; NIOSH 063-D, by either of the following methods:

• Federal eRulemaking Portal: https://www.regulations.gov. Follow the instructions for submitting comments.

• Mail: National Institute for Occupational Safety and Health, NIOSH Docket Office, 1090 Tusculum Avenue, MS C-34, Cincinnati, Ohio 45226-1998.

Instructions: On June 27, 2022, NIOSH will hold a virtual (web-based) meeting to seek input. The meeting will be open to the fire service community and interested parties, limited only by web conference lines (500 web conference lines are available) using Audio/LiveMeeting Conferencing. Web-based meeting requirements include: A computer with audio capabilities and an internet connection or a telephone, preferably with mute capability. Each participant is required to register for the meeting at the NIOSH website https://www.cdc.gov/niosh/fire/fsc.html by June 15, 2022, 5:00 p.m. EDT. NIOSH will reply by email confirming registration and the details needed to participate in the web-based meeting.

All information received in response to this notice must include the agency name and docket number (CDC-2022-0063; NIOSH 063-D). All relevant comments and submissions provided will be reviewed and posted at http://www.regulations.gov. Do not submit comments by email. CDC does not accept comments by email.

FOR FURTHER INFORMATION CONTACT: Jeff Funke, Team Lead, Surveillance and Field Investigations Branch, Division of Safety Research; Telephone: 304-285-5894; Email: NIOSHFireTrauma@cdc.gov.

SUPPLEMENTARY INFORMATION:

Purpose: The purpose of this web-based meeting and docket is to request public comment from the fire service community and interested parties on the NIOSH Fire Fighter Fatality Investigation and Prevention Program (FFFIPP).

Matters To Be Considered: NIOSH will provide a brief presentation and will facilitate discussion on the following two topics: (1) The primary audiences for NIOSH line-of-duty death investigation reports and the strengths and weaknesses of those reports, including report content, format, and length; and (2) specific feedback on how the NIOSH FFFIPP prioritization guideline for planning investigations can be enhanced to meet the needs of the fire service community.

Additional time will be given for invited and registered participants to bring other topics to the attention to the NIOSH FFFIPP.

Background: Since its inception in 1998, the NIOSH FFFIPP has held periodic meetings to seek input about the program with the fire service community and interested parties. These meetings have been an important component of the program and are vital to ensure the program is meeting the needs and expectations of those it serves. The FFFIPP has posted the results of these periodic meetings on its website at: https://www.cdc.gov/niosh/fire/abouttheprogram/ourworkreviewed/ourworkreviewed.html.

Written Fire Service Community and Interested Parties Participation

Interested fire service persons and organizations are invited to participate by submitting written views, recommendations, and data. Please note that comments received, including attachments and other supporting materials, are part of the public record and are subject to public disclosure. Comments will be posted on https://www.regulations.gov. Therefore, do not include any information in your comment or supporting materials that you consider confidential or inappropriate for public disclosure. CDC will review all submissions and may choose to redact, or withhold, submissions containing private or proprietary information such as Social Security numbers, medical information, inappropriate language, or duplicate/near duplicate examples of a mass-mail campaign. CDC will carefully consider all comments submitted into the docket and may modify the FFFIPP and operations.

Written fire service community and interested parties comments: The docket will be opened to receive written comments on May 13, 2022 through July 27, 2022, 5:00 p.m. EDT.

Oral Fire Service Community and Interested Parties Comments

This meeting will include time for members of the fire service community and interested parties to provide comments about the NIOSH FFFIPP, including investigation reports and program products to improve firefighter safety and health, and suggestions for enhancing the impact of the program. A discussion period will be provided to enable the audience to contribute to any of the topics discussed. The time allotted for speakers during the discussion period will be at the discretion of the NIOSH moderator based upon overall time constraints. A chat box will also be available during the meeting for participants to submit questions or comments to the speakers or NIOSH. This chat will be part of the official record. Questions will be read by the moderator and answered by the speaker and/or NIOSH as time allows.

John J. Howard,
Director, National Institute for Occupational Safety and Health, Centers for Disease Control and Prevention.

[FR Doc. 2022-10411 Filed 5-12-22; 8:45 am]

BILLING CODE 4163-18-P